DEPARTMENT OF AGRICULTURE

Animal and Plant Health Inspection Service

[Docket No. APHIS-2024-0063]

Domestic Quarantine: Quarantined Areas and Regulated Articles

AGENCY: Animal and Plant Health Inspection Service, USDA.

ACTION: Notice.

SUMMARY: We are advising the public of the changes made to our lists of domestic quarantined areas in 2024. These changes may be viewed on the relevant plant pest programs' websites.

FOR FURTHER INFORMATION CONTACT: Dr. Derek A. Woller, Senior Regulatory Policy Specialist, RCC, IRM, PEIP, PPQ, APHIS, 5601 Sunnyside Ave., Beltsville, MD 20705-5000; (480) 490-6454; Derek.A.Woller@usda.gov.

SUPPLEMENTARY INFORMATION: The regulations in 7 CFR part 301 are designed to prevent the interstate spread of plant pests that are new to or not widely distributed within the United States. Subparts C through X (§§ 301.32 through 301.92-12, referred to below as the regulations) each address a specific plant pest and contain criteria for designating certain areas of the United States as quarantined areas ¹ for the specific plant pest. The regulations restrict the interstate movement of certain regulated articles from quarantined areas in order to prevent the spread of plant pests to noninfected areas of the United States.

¹ Certain subparts refer to quarantined areas as “regulated areas,” “protected areas,” or “suppressive/generally infested areas.”

In accordance with the regulations, APHIS keeps updated lists of quarantined areas on the relevant plant pest programs' websites, which are listed in the relevant subpart of the regulations. When a change to the status of a plant pest threat occurs, APHIS takes appropriate action to add, expand, remove, or reduce a quarantined area, and the relevant APHIS plant pest program updates the web-based list of quarantined areas for their program. APHIS also publishes a yearly notice informing the public of all updates to quarantined areas that have occurred since publication of the last notice informing the public of such updates.

Since our last notice ² informing the public of updates to our lists of quarantined areas, the following actions revising our lists of quarantined areas have been taken. Updated lists of quarantined areas are available on the relevant plant pest programs' websites. For ease of access, direct links to each page are provided as footnotes in this document.

² Docket No. APHIS-2019-0035, 89 FR 53382, June 26, 2024.

Asian Longhorned Beetle ³

³ https://www.aphis.usda.gov/plant-pests-diseases/alb.

• DA-2024-02

Citrus Canker ⁴

⁴ https://www.aphis.usda.gov/plant-pests-diseases/citrus-diseases/citrus-canker.

• DA-2024-04

• DA-2024-13

Karnal Bunt ⁵

⁵ https://www.aphis.usda.gov/plant-pests-diseases/karnal-bunt.

• DA-2024-05

• DA-2024-41

Imported Fire Ant ⁶

⁶ https://www.aphis.usda.gov/plant-pests-diseases/ifa.

• DA-2024-06

Witchweed ⁷

⁷ https://www.aphis.usda.gov/plant-pests-diseases/witchweed.

• DA-2024-26

Fruit Flies ⁸

⁸ https://www.aphis.usda.gov/plant-pests-diseases/fruit-flies.

• DA-2024-07

• DA-2024-09

• DA-2024-11

• DA-2024-16

• DA-2024-18

• DA-2024-19

• DA-2024-20

• DA-2024-23

• DA-2024-24

• DA-2024-25

• DA-2024-28

• DA-2024-29

• DA-2024-32

• DA-2024-33

• DA-2024-37

• DA-2024-38

• DA-2024-40

• DA-2024-42

• DA-2024-44

• DA-2024-45

• DA-2024-46

• DA-2024-49

Citrus Greening ⁹

⁹ https://www.aphis.usda.gov/plant-pests-diseases/citrus-diseases/citrus-greening-and-asian-citrus-psyllid.

• DA-2024-08

• DA-2024-15

• DA-2024-27

• DA-2024-35

• DA-2024-39

• DA-2024-43

• DA-2024-48

Pale Cyst Nematode ¹⁰

¹⁰ https://www.aphis.usda.gov/plant-pests-diseases/pcn.

• DA-2024-31

This notice serves as an official record and public notification of these actions.

Authority: 7 U.S.C. 7701-7772 and 7781-7786; 7 CFR 2.22, 2.80, and 371.3. Section 301.75-15 issued under Sec. 204, Title II, Public Law 106-113, 113 Stat. 1501A-293; sections 301.75-15 and 301.75-16 issued under Sec. 203, Title II, Public Law 106-224, 114 Stat. 400 (7 U.S.C. 1421 note).

Done in Washington, DC.
Sarah Helming,
Acting Administrator, Animal and Plant Health Inspection Service.

[FR Doc. 2025-15811 Filed 8-19-25; 8:45 am]

BILLING CODE 3410-34-P